DEPARTMENT OF HEALTH AND HUMAN SERVICES

Administration for Children and Families

Announcement of Financial Assistance To Expand Head Start Enrollment to Unserved Communities

AGENCY: Administration on Children, Youth and Families (ACYF), ACF, DHHS.

ACTION: Notice.

SUMMARY: The Head Start Bureau of the Administration on Children, Youth and Families announces that competing applications will be accepted to fund new Head Start services in:

(1) Counties (or sub-county areas) not currently served by Head Start (see Appendix A);

(2) Federally-recognized American Indian reservations and Alaska Native villages not currently served by Head Start and;

(3) States where Head Start services are not available for the children of migrant farmworkers (Connecticut, Iowa, Kansas, Kentucky, Massachusetts, Mississippi, Missouri, Montana, Oklahoma, Nevada, New Mexico, and the State of Louisiana outside the Parishes of Tangipahoa, St. Helena, and St. Tammany.

It is expected that a total of approximately $4,000,000 will be awarded under this Announcement Program. These funds were appropriated in fiscal year 2001 with authority to expend them in fiscal year 2002.

The Head Start program is authorized by the Head Start Act, 42 U.S.C. 9831 et seq., as amended.

DATES: The closing date for receipt of applications is January 14, 2002.

ADDRESSES: Address applications to: Head Start Unserved Communities Competition, ACYF Operations Center, 1815 North Fort Myer Drive, Suite 300, Arlington, VA 22209, Phone # 1-800-351-2293.

Copies of the program announcement and necessary application forms can be downloaded from the Head Start Web site at: www.acf.dhhs.gov/programs/hsb.

FOR FURTHER INFORMATION CONTACT: ACYF Operations Center at: 1815 N. Fort Myer Drive, Suite 300, Arlington, VA 22209, or telephone: 1-800-351-2293 or email to: ehs@lcgnet.com.

Evaluation Criteria

Applications will be reviewed and evaluated on the following criteria:

1. Objectives and Need for Assistance (20 Points)

The extent to which the application provides current data on the needs of young children, families, and communities for expanded Head Start services, including analyses of changes in poverty and family mobility, employment opportunities and welfare reform, and any special unserved or underserved populations or groups.

The extent to which the application provides convincing evidence of the involvement and support of other organizations serving low-income families in assessing family and community needs and resources, developing proposed plans and strategies, and in active partnerships to implement the proposed expansion.

2. Results or Benefits Expected (10 Points)

The extent to which the applicant identifies the results and benefits to be derived from the project and links these to the stated objectives.

The extent to which the applicant describes the kinds of data to be collected and how they will be utilized to measure progress towards the stated results or benefits.

3. Approach (25 Points)

The extent to which the application includes a detailed, well-organized, and credible plan of action to carry out the proposed expansion of Head Start services, including plans for recruitment and selection of children, arrangements for transportation and facilities and plans for start-up of the new services.

The extent to which the application includes clear plans and a demonstrated commitment to implement the Head Start Program Performance Standards, including involvement of parents and families in program design and decision making.

The extent to which the application proposes, where possible, to collaborate with other community providers to deliver a high quality, cost-effective Head Start program.

The extent to which the application provides sound, cost-effective staffing, organizational and management strategies, including staff training and development to ensure that the expansion provides high quality and responsive services.

The extent to which the application demonstrates a sound strategy for facilitating the transition of Head Start children from the Head Start program to the local school system by coordinating with the local education agency and the local schools who will be enrolling Head Start children.

4. Organizational Capacity & Experience (20 Points)

The extent of the demonstrated capacity of the applicant organization, key leaders and managers and, where appropriate, proposed partnering organizations in:

Providing high quality, responsive services to young children and families, including evidence of the capability to meet the Head Start Program Performance Standards; Managing expansion of program services in an effective and timely manner; and

Managing successful partnerships to serve young children and their families that involve sharing resources, staffing and facilities.

5. Cost Effectiveness and Budget Appropriateness (25 Points)

The extent to which the proposed budget is reasonable, appropriate and cost effective in view of the proposed services, strategies and anticipated outcomes.

The extent to which the applicant has mobilized significant additional resources to complement Head Start expansion funds.

Executive Order 12372—Notification Process

This program is covered under Executive Order (E.O.) 12372, “Intergovernmental Review of Federal Programs,” and 45 CFR part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applicants for projects to be administered by Federally recognized Indian tribes are also exempt from the requirements of Executive Order 12372. Otherwise, applicants should contact their SPOC as soon as possible to alert them to the prospective application and to receive any necessary instructions. Applicants must submit any required material to the SPOC as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline date to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: William Wilson, Head Start Bureau, Grants Officer, Room 2220, 330 C Street, SW., Washington, DC 20447, Attn: Head Start Unserved Communities Competition.

A list of Single Points of Contact for each State and territory can be found at the following web site: www.whitehouse.gov/omb/grants/spoc.html.

(Catalog of Federal Domestic Assistance Program Number 93.600, Project Head Start)

Dated: September 19, 2001.
James A. Harrell,
Acting Commissioner, Administration on Children, Youth and Families.

Appendix A

Counties Unserved by Head Start
[8/31/01]
State | County
California | Alpine County
Colorado | Baca County Cheyenne County Custer County Dolores County Douglas County Grand County Gunnison County Hinsdale County Jackson County Kiowa County Kit Carson County Mineral County Ouray County Phillips County Pitkin County Rio Blanco County Routt County San Juan County San Miguel County Sedgwick County Summit County Teller County
Georgia | Chattahoochee County Echols County Taliaferro County
Idaho | Butte County Clark County Custer County Southern Bannock County Fremont County Jefferson County Lemhi County Madison County
Iowa | Adair County
Kansas | Barber County Chase County Chautauqua County Clark County Comanche County Edwards County Elk County Greeley County Greenwood County Hamilton County Harper County Hodgeman County Kiowa County Lane County Lincoln County Meade County Mitchell County Morris County Morton County Ness County Osbourne County Osage County Rooks County
Minnesota | Cook County
Montana | Big Horn County Carbon County Carter County Chouteau County Daniels County Fallon County Lake County McCone County Powder River County Prairie County Roosevelt County Rosebud County Sheridan County Stillwater County Sweet Grass County Treasure County Yellowstone National Park County
Nebraska | Arthur County Banner County Blaine County Boyd County Dixon County Dundy County Gosper County Grant County Hayes County Hooker County Johnson County Keya Paha County Logan County Loup County McPherson County Perkins County Pierce County Rock County Sioux County Thomas County Washington County Wheeler County
Nevada | Douglas County Esmeralda County Eureka County Lander County Lincoln County Nye County Pershing County Storey County
New Mexico | Harding County Los Alamos County
North Carolina | Polk County
North Dakota | Burke County Divide County Grant County McKenzie County Mercer County Mountrail County Oliver County Renville County Rolette County Sioux County Dewey County Todd County Ziebach County
Oklahoma | Dewey County
Texas | Armstrong County Borden County Briscoe County Carson County Cochran County Culberson County Franklin County Dickens County Hansford County Hartley County Hemphill County Jack County Jeff Davis County Kennedy County Kent County King County Lipscomb County Loving County McMullen County
Texas | Motley County Oldham County Presidio County Rains County Roberts County Sherman County Stonewall County Terrell County Throcknorton County Wheeler County Winkler County
Utah | Daggett County Sanpete County
Virginia | Prince George County Colonial Heights County
Washington State | Columbia County Garfield County Lincoln County
Wisconsin | Ozaukee County
Wyoming | Teton County

[FR Doc. 01-23767 Filed 9-21-01; 8:45 am]

BILLING CODE 4184-01-P